FEDERAL COMMUNICATIONS COMMISSION

47 CFR Part 73

[DA 02-243; MM Docket No.00-63; RM-9837]

Radio Broadcasting Services; Greenville and Cooper, TX

AGENCY: Federal Communications Commission.

ACTION: Final rule.

SUMMARY: This document substitutes Channel 228C3 for Channel 228A and reallots Channel 228C3 from Greenville, Texas, to Cooper, Texas, and modifies the authorization for Station KIKT to specify operation on Channel 228C3 at Cooper in response to a petition filed by KRBE LICO, Inc. See 65 FR 20936, April 19, 2000. The coordinates for Channel 228C3 at Cooper are 33-14-16 and 95-47-50. This site is located 18.2 kilometers (11.2 miles) southwest of Cooper and 30.9 kilometers (19.2 miles) east of Greenville.

DATES: Effective March 18, 2002.

FOR FURTHER INFORMATION CONTACT: Kathleen Scheuerle, Mass Media Bureau, (202) 418-2180.

SUPPLEMENTARY INFORMATION: This is a summary of the Commission's Report and Order, MM Docket No. 00-63, adopted January 23, 2002, and released February 1, 2002. The full text of this Commission document is available for public inspection and copying during regular business hours in the FCC Reference Information Center, Portals II, 445 12th Street, SW, Room CY-A257, Washington, DC, 20554. The complete text of this decision may also be purchased from the Commission's duplicating contractor, Qualex International, Portals II, 445 12th Street, SW, Room CY-B402, Washington, DC, 20554, telpehone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by removing Greenville, Channel 228A and adding Cooper, Channel 228C3.

Federal Communications Commission.
John A. Karousos,
Chief, Allocations Branch, Policy and Rules Division, Mass Media Bureau.

[FR Doc. 02-4003 Filed 2-15-02; 8:45 am]

BILLING CODE 6712-01-P